FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 15, 2011.

A. Federal Reserve Bank of Minneapolis (Jacqueline G. King, Community Affairs Officer) 90 Hennepin Avenue, Minneapolis, Minnesota 55480-0291:

1. Stuart James Sneer and Jeffrey Lee Weldon, both of Mankato, Minnesota, as trustees and individually, and Jennifer Susan Johnson, Chanhassen, Minnesota, as trustee; to control 25 percent or more of the voting shares of Farmers State Corporation, Mankato, Minnesota, and thereby indirectly control voting shares of United Prairie Bank, Mountain Lake, Minnesota. These notificants will join the James and Susan Sneer Family Group, which controls more than 25 percent of Farmers State Corporation.

Board of Governors of the Federal Reserve System, March 28, 2011.
Robert deV. Frierson,
Deputy Secretary of the Board.

[FR Doc. 2011-7610 Filed 3-30-11; 8:45 am]

BILLING CODE 6210-01-P